FEDERAL MINE SAFETY AND HEALTH REVIEW COMMISSION

Sunshine Act Meeting

November 13, 2006.

TIME AND DATE: 10 a.m., Thursday, November 30, 2006.

PLACE: The Richard V. Backley Hearing Room, 9th Floor, 601 New Jersey Avenue, NW., Washington, DC.

STATUS: Open.

MATTERS TO BE CONSIDERED: The Commission will consider and act upon the following in open session: Secretary of Labor v. Jim Walter Resources, Inc., Docket No. SE 2005-51. (Issues include whether substantial evidence, including inferences drawn from the record, supports the conclusion of the Administrative Law Judge that the operator violated 30 CFR 75.1725(c) when a miner allegedly performed maintenance work on a conveyor belt without cutting off the power and blocking the belt against motion; whether the judge correctly concluded that the violation was significant and substantial; and whether the judge properly assessed the penalty against the operator.)

The Commission heard oral argument in this matter on November 15, 2006.

Any person attending this oral argument who requires special accessibility features and/or auxiliary aids, such as sign language interpreters, must inform the Commission in advance of those needs. Subject to 20 CFR 2706.150(a)(3) and 2706.160(d).

CONTACT PERSON FOR MORE INFO: Jean Ellen, (202) 434-9950/(202) 708-9300 for TDD Relay/1-800-877-8339 for toll free.

Jean H. Ellen,
Chief Docket Clerk.

[FR Doc. 06-9390 Filed 11-20-06; 4:39 pm]

BILLING CODE 6735-01-M